DEPARTMENT OF HEALTH AND HUMAN SERVICES

Centers for Disease Control and Prevention

[30Day-19-0457]

Agency Forms Undergoing Paperwork Reduction Act Review

In accordance with the Paperwork Reduction Act of 1995, the Centers for Disease Control and Prevention (CDC) has submitted the information collection request titled “Aggregate Reports for Tuberculosis Program Evaluation” to the Office of Management and Budget (OMB) for review and approval. CDC previously published a “Proposed Data Collection Submitted for Public Comment and Recommendations” notice on April 23, 2019 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Aggregate Reports for Tuberculosis Program Evaluation (OMB Control No. 0920-0457, Exp. 2/29/2020)—Revision—National Center for HIV/AIDS, Viral Hepatitis, STD, and TB Prevention (NCHHSTP), Centers for Disease Control and Prevention (CDC).

Background and Brief Description

To ensure the elimination of tuberculosis in the United States, CDC's Division of Tuberculosis Elimination (DTBE) provides cooperative agreement funding to tuberculosis (TB) control programs located in state and local health departments. Key program activities include finding tuberculosis infections in recent contacts of cases and in other persons likely to be infected, and providing therapy for latent tuberculosis infection (LTBI).

In 2000, CDC began collecting two aggregate reports from cooperative agreement awardees: The Follow-up and Treatment for Contacts of Tuberculosis Cases Form and the Targeted Testing and Treatment for Latent Tuberculosis Infection Form. These reports contain only de-identified, summary information without client-level identifying information. Awardees submit the reports to CDC on an annual basis, primarily utilizing the National Tuberculosis Indicators Project (NTIP), a secure web-based system. No other federal agency collects this type of national tuberculosis data. CDC uses the information to monitor awardee activities, plan national TB control strategy, and estimate funding needs. CDC also provides ongoing assistance in the preparation and utilization of these reports at the local and state levels of public health jurisdiction, as well as technical support for the NTIP software.

In this Revision request, CDC proposes minor changes to the report forms, data definitions, and reporting instructions. All tuberculosis control programs will discontinue manual data compilation methods and will completely transition to electronic information submission through the NTIP. In addition, three optional questions will be added to each form as recommended by the Association Council for the Elimination of Tuberculosis. The optional questions on nativity, diagnostic tests, and drug regimens will improve understanding of the epidemiology of tuberculosis, the adoption of new diagnostic tests, and the effectiveness of new short-course drug regimens in increasing the initiation and completion of preventive treatment. These changes will help programs assess high-risk populations served and will also address a shift in the national strategies for TB control and prevention, which emphasize treatment of individuals with LTBI and at high risks of progression to TB disease.

OMB approval is requested for three years. Participation in aggregate reporting for tuberculosis program evaluation is required by the cooperative agreement. The number of funded health departments will decrease from 68 to 67. The revised estimated burden per response for each aggregate form is 2 hours and the total estimated annualized burden hours are 268, an increase of 42 hours.

Estimated Annualized Burden Hours
Type of respondent | Form name | Number of respondents | Number of responses per respondent | Average burden per response (in hours)
Health Department Awardee (state, local, city, or other jurisdiction) | Follow-up and Treatment of Contacts to Tuberculosis Cases Form | 67 | 1 | 2
| Targeted Testing and Treatment for Latent Tuberculosis Infection | 67 | 1 | 2

Jeffrey M. Zirger,
Lead, Information Collection Review Office, Office of Scientific Integrity, Office of Science, Centers for Disease Control and Prevention.

[FR Doc. 2019-16961 Filed 8-7-19; 8:45 am]

BILLING CODE 4163-18-P